DEPARTMENT OF HOMELAND SECURITY

Federal Emergency Management Agency

[Docket ID: FEMA-2023-0017]

National Advisory Council

AGENCY: Federal Emergency Management Agency, Department of Homeland Security.

ACTION: Committee management; request for applicants for appointment to a subcommittee of the National Advisory Council.

SUMMARY: The Federal Emergency Management Agency (FEMA) requests that qualified individuals interested in serving on a subcommittee of the FEMA National Advisory Council (NAC), apply for appointment as identified in this notice to provide advice as required by the Planning for Animal Wellness Act. Appointed members will serve on the subcommittee only and will not be members of the NAC.

DATES: FEMA will accept applications until 11:59 p.m. Eastern Time on August 10, 2023.

ADDRESSES: The only method for application package submission is by email. Application packages by U.S. Mail will not be considered. Please submit using the following method: Email: Dawn Essenmacher, Alternate Designated Federal Officer, Office of Policy and Program Analysis, FEMA, FEMA-PAW-Act@fema.dhs.gov, (202) 212-3026. Save materials in one file using the naming convention, “[Last Name]_[First Name]_PAW Application” and attach to the email.

FEMA will send you an email that confirms receipt of your application and will notify you of the final status of your application once FEMA selects members.

FOR FURTHER INFORMATION CONTACT: Dawn Essenmacher, Alternate Designated Federal Officer, Office of Policy and Program Analysis, FEMA, FEMA-PAW-Act@fema.dhs.gov, (202) 212-3026.

SUPPLEMENTARY INFORMATION: The NAC is an advisory committee established in accordance with the provisions of the Federal Advisory Committee Act, 5 U.S.C. ch. 10. As required by the Post-Katrina Emergency Management Reform Act of 2006 (PKEMRA), the Secretary of Homeland Security established the NAC to ensure effective and ongoing coordination of federal preparedness, protection, response, recovery, and mitigation for natural disasters, acts of terrorism, and other man-made disasters. Appointees may be designated as a Special Government Employee (SGE) as defined in section 202(a) of title 18, U.S.C., or as a Representative member. SGEs speak in a personal capacity as experts in their field and Representative members speak for the stakeholder group they represent.

The Planning for Animal Wellness (PAW) Act, Public Law 117-212, was signed into law on October 17, 2022. The Act requires FEMA to create a working group to review best practices and Federal guidance, as of the date of enactment of this Act, on congregate and non-congregate sheltering and evacuation planning, as it relates to the needs of household pets, service and assistance animals, and captive animals, as appropriate, in emergency and disaster preparedness, response, and recovery. It also requires FEMA to determine whether the existing best practices and Federal guidance are sufficient. If the Administrator, after reviewing the subcommittee's advice, determines that existing best practices and Federal guidance are insufficient, the Administrator will determine whether to publish new guidance, in consultation with the subcommittee. The subcommittee will also encourage and foster collaborative efforts among individuals and entities working to address the needs of household pets, service and assistance animals, and captive animals, as appropriate, in emergency and disaster preparedness, response, and recovery.

To serve on this subcommittee, FEMA will select:

• At least two representatives of State governments with experience in animal emergency management;

• At least one Tribal Nation citizen or representative with experience in animal emergency management;

• At least one Territorial government representative with experience in animal emergency management;

• At least two representatives of local governments with experience in animal emergency management;

• At least two representatives from academia;

• At least two veterinary experts;

• At least two representatives from nonprofit organizations working to address the needs of household pets and service animals in emergencies or disasters;

• At least one representative from the Federal Animal Emergency Management Working Group; and

• Any other members that the Administrator deems appropriate, which could be based on specific experience not identified, or diverse perspectives.

Members will not receive compensation for their service. Members may be required to file a confidential financial disclosure and complete ethics training provided by FEMA. FEMA is requesting that individuals who are interested in and qualified to serve on the subcommittee apply for appointment. Appointments will be for a one-year term, with the possibility of renewal, and will begin September 1, 2023.

To apply, please submit an application package to FEMA's Office of Policy and Program Analysis as listed in the ADDRESSES section of this notice. There is no application form, but each application package MUST include the following information:

• Cover letter, addressed to the Office of Policy and Program Analysis, that includes current position title and employer or organization you represent, home and work mailing addresses, preferred telephone number, and email address; the discipline area position(s) for which you would like consideration; and why you are interested in serving on the subcommittee.

• A summary of the most important accomplishments that qualify you to serve in the form of three to five (3-5) bullets, in fewer than 75 words total.

• Three (3) peer or supervisor references including full name, position title, employer or organization, preferred telephone number and email address. References must be able to attest to the qualifications and accomplishments you have listed.

• Resume or Curriculum Vitae (CV).

Your application package must be less than eight (8) total pages to be considered by FEMA. Information contained in your application package should clearly indicate your qualifications. FEMA will not consider incomplete applications. FEMA will review the information contained in application packages and make selections based on the requirements listed above, expertise in the subject matter area, and ability to meet membership expectations. FEMA will also consider overall composition, including diversity (including, but not limited to geographic, demographic, and experience) and mix of officials, emergency managers, and emergency response providers from State, local, Tribal, and Territorial governments, when selecting members.

DHS does not discriminate based on race, color, religion, sex, national origin, sexual orientation, gender identity, marital status, political affiliation, disability and genetic information, age, membership in an employee organization, or other non-merit factor. The Department is committed to pursuing opportunities, consistent with applicable law, to compose a subcommittee that reflects the diversity of the United States. Federally registered lobbyists may not apply.

Expectations: Appointees to this volunteer service opportunity are expected to fully participate in meetings, work with fellow members as a team, and maintain a high degree of integrity. The NAC Bylaws contain more information and can be found at: https://www.fema.gov/sites/default/files/documents/fema_nac-bylaws-041223.pdf. FEMA estimates a three (3) hour minimum time commitment per month for regular communications, special activities, and subcommittee participation. Some selected members will serve in leadership roles and participate in additional meetings and activities. Members may be invited to attend in-person meetings of the NAC up to twice per year, typically three (3) days for each meeting. FEMA does not pay members for their time, but may reimburse travel expenses such as airfare, lodging, meals, incidentals, and other transportation costs within Federal Travel Regulations when pre-approved by the Designated Federal Officer.

Deanne Criswell,
Administrator, Federal Emergency Management Agency.

[FR Doc. 2023-15409 Filed 7-19-23; 8:45 am]

BILLING CODE 9111-24-P